DEPARTMENT OF TRANSPORTATION

Federal Aviation Administration

14 CFR Part 39

[Docket No. FAA-2023-1044; Project Identifier AD-2023-00593-T; Amendment 39-22436; AD 2023-09-13]

RIN 2120-AA64

Airworthiness Directives; Lockheed Martin Corporation/Lockheed Martin Aeronautics Company Airplanes

AGENCY: Federal Aviation Administration (FAA), DOT.

ACTION: Final rule; request for comments.

SUMMARY: The FAA is superseding Airworthiness Directive (AD) 2019-18-09, which applied to all Lockheed Martin Corporation/Lockheed Martin Aeronautics Company Model 382, 382B, 382E, 382F, and 382G airplanes; and Model C-130A, HP-C-130A, EC-130Q, C-130B, and C-130H airplanes. AD 2019-18-09 required a visual inspection of the center wing upper and lower rainbow fittings for cracks, an eddy current inspection of the center wing lower rainbow fittings for cracks, and replacement if necessary. This AD was prompted by an analysis of reported cracks showing repetitive inspections are needed to adequately address cracked inner tangs of the center wing lower rainbow fittings. This AD requires repetitive inspections of the center wing upper and lower rainbow fittings for cracks and replacement if necessary. The FAA is issuing this AD to address the unsafe condition on these products.

DATES: This AD is effective May 31, 2023.

The Director of the Federal Register approved the incorporation by reference of a certain publication listed in this AD as of May 31, 2023.

The Director of the Federal Register approved the incorporation by reference of a certain other publication listed in this AD as of October 11, 2019 (84 FR 50730, September 26, 2019).

The FAA must receive comments on this AD by June 30, 2023.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov by searching for and locating Docket No. FAA-2023-1044; or in person at Docket Operations between 9 a.m. and 5 p.m., Monday through Friday, except Federal holidays. The AD docket contains this final rule, any comments received, and other information. The street address for Docket Operations is listed above.

Material Incorporated by Reference:

• For service information identified in this final rule, contact Lockheed Martin Corporation/Lockheed Martin Aeronautics Company, Airworthiness Office, Dept. 6A0M, Zone 0252, Column P-58, 86 S Cobb Drive, Marietta, GA 30063; telephone 770-494-5444; fax 770-494-5445; email ams.portal@lmco.com.

• You may view this referenced service information at the FAA, Airworthiness Products Section, Operational Safety Branch, 2200 South 216th St., Des Moines, WA. For information on the availability of this material at the FAA, call 206-231-3195. It is also available at regulations.gov by searching for and locating Docket No. FAA-2023-1044.

FOR FURTHER INFORMATION CONTACT: Fred Caplan, Aerospace Engineer, Airframe Section, East Certification Branch, FAA, 1701 Columbia Avenue, College Park, GA 30337; phone: 404-474-5507; email: 9-ASO-ATLACO-ADs@faa.gov.

SUPPLEMENTARY INFORMATION:

Background

The FAA issued AD 2019-18-09, Amendment 39-19736 (84 FR 50730, September 26, 2019) (AD 2019-18-09), for all Lockheed Martin Corporation/Lockheed Martin Aeronautics Company (Lockheed) Model 382, 382B, 382E, 382F, and 382G airplanes; and Model C-130A, HP-C-130A, EC-130Q, and C-130B airplanes. AD 2019-18-09 required a visual inspection of the center wing upper and lower rainbow fittings for cracks, an eddy current inspection of the center wing lower rainbow fittings for cracks, and replacement if necessary. AD 2019-18-09 was prompted by reports of cracked inner tangs of the center wing lower rainbow fittings. The FAA issued AD 2019-18-09 to address such cracks, which could result in failure of the center wing lower rainbow fittings, wing separation, and loss of the airplane.

Actions Since AD 2019-18-09 Was Issued

Since the FAA issued AD 2019-18-09, Lockheed Martin Corporation/Lockheed Martin Aeronautics Company has notified the FAA of cracks found on military airplanes of similar type design to the affected airplanes of AD 2019-18-09. The FAA reviewed Lockheed's analysis of these reported cracks and concurs with Lockheed's finding that repetitive inspections are needed for the airplanes identified in AD 2019-18-09 in order to adequately address cracked inner tangs of the center wing lower rainbow fittings. Each tang (node) contains a single attachment bolt to the outer wing. If tangs fail, the rainbow fitting may not be able to carry limit load and the rainbow fitting may fail. This condition, if not addressed, could result in failure of the center wing lower rainbow fittings, wing separation, and loss of the airplane.

Also, since the FAA issued AD 2019-18-09, the FAA has determined that Model C-130H airplanes are also affected by this unsafe condition. Therefore, that airplane model has been added to applicability in paragraph (c)(2)(viii) of this AD.

FAA's Determination

The FAA is issuing this AD because the agency has determined the unsafe condition described previously is likely to exist or develop in other products of the same type design.

Related Service Information Under 1 CFR Part 51

The FAA reviewed Lockheed Martin Aeronautics Company Alert Service Bulletin A382-57-98, Revision 2, dated February 14, 2023. This service information specifies procedures for repetitive visual inspections of the left and right center wing upper and lower rainbow fittings for cracks, repetitive eddy current inspections of the center wing lower rainbow fittings for cracks, and replacement if necessary.

This AD also requires Lockheed Martin Aeronautics Company Alert Service Bulletin A382-57-98, Revision 1, dated August 16, 2019, which the Director of the Federal Register approved for incorporation by reference as of October 11, 2019 (84 FR 50730, September 26, 2019).

This service information is reasonably available because the interested parties have access to it through their normal course of business or by the means identified in the ADDRESSES section.

AD Requirements

This AD requires accomplishing the actions specified in the service information already described, except as discussed under “Differences Between this AD and the Service Information.”

Explanation of Change To Type Certificate Holder Name

The FAA has revised the reference to the type certificate holder's name specified in paragraph (c)(2)(vi) of this AD to identify the type certificate holder's name as published in the most recent type certificate data sheet for the affected models.

Impact on Intrastate Aviation in Alaska

In light of the heavy reliance on aviation for intrastate transportation in Alaska, the FAA fully considered the effects of this AD (including costs to be borne by affected operators) from the earliest possible stages of AD development. This AD is based on those considerations, and was developed with regard to minimizing the economic impact on operators to the extent possible, consistent with the safety objectives of this AD. In any event, the Federal Aviation Regulations require operators to correct an unsafe condition identified on an airplane to ensure operation of that airplane in an airworthy condition. The FAA has determined in this case that the requirements are necessary and the indirect costs would be outweighed by the safety benefits of the AD.

Differences Between This AD and the Service Information

Lockheed Martin Aeronautics Company Alert Service Bulletin A382-57-98, Revision 1, dated August 16, 2019; and Lockheed Martin Aeronautics Company Alert Service Bulletin A382-57-98, Revision 2, dated February 14, 2023; specify that, for certain airplanes, Service Bulletin 382-57-97, or the results of a Lockheed Martin Operational Usage Evaluation (OUE) should be used to determine the number of flight hours on the center wing lower rainbow fittings. This AD does not allow the use of Service Bulletin 382-57-97 or the OUE to determine the number of flight hours because they have not been approved by the FAA. If operators are unable to determine the number of flight hours on the center wing lower rainbow fittings, they must do the actions required by this AD within 30 days as specified in paragraphs (h) and (j) of this AD.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because cracked inner tangs of the center wing lower rainbow fittings could result in failure of the center wing lower rainbow fittings, wing separation, and loss of the airplane. Further, based upon the age of the fleet, it is likely that some airplanes may be beyond the thresholds specified in paragraph (i) of this AD. Thus, the compliance time for the required action is shorter than the time necessary for the public to comment and for publication of the final rule. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forgo notice and comment.

Comments Invited

The FAA invites you to send any written data, views, or arguments about this final rule. Send your comments to an address listed under ADDRESSES. Include “Docket No. FAA-2023-1044 and Project Identifier AD-2023-00593-T” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Fred Caplan, Aerospace Engineer, Airframe Section, East Certification Branch, FAA, 1701 Columbia Avenue, College Park, GA 30337; phone: 404-474-5507; email: 9-ASO-ATLACO-ADs@faa.gov. Any commentary that the FAA receives that is not specifically designated as CBI will be placed in the public docket for this rulemaking.

Regulatory Flexibility Act

The requirements of the Regulatory Flexibility Act (RFA) do not apply when an agency finds good cause pursuant to 5 U.S.C. 553 to adopt a rule without prior notice and comment. Because the FAA has determined that it has good cause to adopt this rule without notice and comment, RFA analysis is not required.

Costs of Compliance

The FAA estimates that this AD affects 36 airplanes of U.S. registry. The FAA estimates the following costs to comply with this AD:

Estimated Costs
Action | Labor cost | Parts cost | Cost per product | Cost on U.S. operators
Inspections (retained actions from AD 2019-18-09) | 16 work-hours × $85 per hour = $1,360 per inspection cycle | $0 | $1,360 per inspection cycle | $48,960 per inspection cycle.
Repetitive Inspections (new proposed action) | 16 work-hours × $85 per hour = $1,360 per inspection cycle | 0 | 1,360 per inspection cycle | 48,960 per inspection cycle.

The FAA estimates the following costs to do any necessary replacement that would be required based on the results of the inspection. The FAA has no way of determining the number of aircraft that might need this replacement:

On-Condition Costs
Action | Labor cost | Parts cost | Cost per product
Replacement | 740 work-hours × $85 per hour = $62,900 | $15,000 | $77,900

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2019-18-09, Amendment 39-19736 (84 FR 50730, September 26, 2019); and

b. Adding the following new AD:

2023-09-13 Lockheed Martin Corporation/Lockheed Martin Aeronautics Company: Amendment 39-22436; Docket No. FAA-2023-1044; Project Identifier AD-2023-00593-T.

(a) Effective Date

This airworthiness directive (AD) is effective May 31, 2023.

(b) Affected ADs

This AD replaces AD 2019-18-09, Amendment 39-19736 (84 FR 50730, September 26, 2019) (AD 2019-18-09).

(c) Applicability

This AD applies to all airplanes specified in paragraphs (c)(1) and (2) of this AD, certificated in any category.

(1) Lockheed Martin Corporation/Lockheed Martin Aeronautics Company Model 382, 382B, 382E, 382F, and 382G airplanes.

(2) The airplanes specified in paragraphs (c)(2)(i) through (x) of this AD, type certificated in the restricted category.

(i) LeSEA Model C-130A airplanes, Type Certificate Data Sheet (TCDS) A34SO, Revision 1.

(ii) T.B.M., Inc., (transferred from Central Air Services, Inc.) Model C-130A airplanes, TCDS A39CE, Revision 3.

(iii) Western International Aviation, Inc., Model C-130A airplanes, TCDS A33NM.

(iv) USDA Forest Service Model C-130A airplanes, TCDS A15NM, Revision 4.

(v) Snow Aviation International, Inc., Model C-130A airplanes, TCDS TQ3CH, Revision 1.

(vi) International Air Response (transferred from Rogers Helicopters, Inc., and Heavylift Helicopters, Inc.) Model C-130A airplanes, TCDS A31NM, Revision 3.

(vii) Hawkins & Powers Aviation, Inc., Model HP-C-130A airplanes, TCDS A30NM, Revision 1.

(viii) Coulson Aviation (USA), Inc., Model EC-130Q airplanes and Model C-130H airplanes, TCDS T00019LA, Revision 4.

(ix) Lockheed-Georgia Company Model 282-44A-05 (C-130B) airplanes, TCDS A5SO.

(x) Surplus Model C-130A airplanes.

(d) Subject

Air Transport Association (ATA) of America Code 57, Wings.

(e) Unsafe Condition

This AD was prompted by an analysis of reported cracks showing repetitive inspections are needed to adequately address cracked inner tangs of the center wing lower rainbow fittings. The FAA is issuing this AD to address such cracks. The unsafe condition, if not addressed, could result in failure of the center wing lower rainbow fittings, wing separation, and loss of the airplane.

(f) Compliance

Comply with this AD within the compliance times specified, unless already done.

(g) Retained Inspections With Revised Service Information

This paragraph restates the requirements of paragraph (g) of AD 2019-18-09, with revised service information. Except as specified in paragraph (h) of this AD: Before the accumulation of 15,000 flight hours on the lower center wing rainbow fitting, or within 30 days after October 11, 2019 (the effective date of AD 2019-18-09), whichever occurs later, do the inspections required by paragraphs (g)(1) and (2) of this AD, in accordance with the Accomplishment Instructions of Lockheed Martin Aeronautics Company Alert Service Bulletin A382-57-98, Revision 1, dated August 16, 2019; or Lockheed Martin Aeronautics Company Alert Service Bulletin A382-57-98, Revision 2, dated February 14, 2023. If any cracks are found during any inspection required by paragraphs (g)(1) and (2) of this AD, replace the rainbow fitting before further flight.

(1) Do a visual inspection of the center wing upper and lower rainbow fittings for any cracks.

(2) Do an eddy current inspection of the center wing lower rainbow fittings for any cracks.

(h) Retained Compliance Time Exception for Paragraph (g) of This AD With No Changes

This paragraph restates the exception specified in paragraph (h) of AD 2019-18-09, with no changes. For any airplane on which the number of flight hours on the lower rainbow fitting cannot be determined for paragraph (g) of this AD: Do the inspections required by paragraphs (g)(1) and (2) of this AD within 30 days after October 11, 2019 (the effective date of AD 2019-18-09).

(i) New Repetitive Inspections

Except as specified in paragraph (j) of this AD: Within 5,000 flight hours after accomplishing the inspections required by paragraph (g) of this AD, or within 30 days after the effective date of this AD, whichever occurs later, do the inspections specified in paragraphs (i)(1) and (2) of this AD, in

accordance with the Accomplishment Instructions of Lockheed Martin Aeronautics Company Alert Service Bulletin A382-57-98, Revision 2, dated February 14, 2023. Repeat the inspections thereafter at intervals not to exceed 5,000 flight hours. If any crack is found during any inspection required by paragraph (i)(1) or (2) of this AD, replace the rainbow fitting before further flight.

(1) Do a visual inspection of the left and right center wing upper and lower rainbow fittings for any crack.

(2) Do an eddy current inspection of the left and right center wing lower rainbow fittings for any crack.

(j) Compliance Time Exception for Paragraph (i) of This AD

For any airplane on which the number of flight hours on the lower rainbow fitting cannot be determined for paragraph (i) of this AD: Do the inspections required by paragraphs (i)(1) and (2) of this AD within 30 days after the effective date of this AD.

(k) No Report

Although Lockheed Martin Aeronautics Company Alert Service Bulletin A382-57-98, Revision 1, dated August 16, 2019; and Lockheed Martin Aeronautics Company Alert Service Bulletin A382-57-98, Revision 2, dated February 14, 2023; specify to report inspection findings, this AD does not require any report.

(l) Credit for Previous Actions

This paragraph provides credit for the actions specified in paragraph (g) of this AD, if those actions were performed before October 11, 2019 (the effective date of AD 2019-18-09) using Lockheed Martin Aeronautics Company Alert Service Bulletin A382-57-98, dated August 9, 2019.

(m) Special Flight Permit

Special flight permits may be issued in accordance with 14 CFR 21.197 and 21.199 to operate the airplane to a location where the airplane can be modified, provided no more than two tangs (nodes) are found cracked during any inspection required by paragraph (g) or (i) of this AD.

(n) Alternative Methods of Compliance (AMOCs)

(1) The Manager, Atlanta ACO Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (o)(1) of this AD.

(2) Before using any approved AMOC, notify your appropriate principal inspector, or lacking a principal inspector, the manager of the responsible Flight Standards Office.

(3) An AMOC that provides an acceptable level of safety may be used for any repair, modification, or alteration required by this AD if it is approved by a Lockheed Martin Corporation/Lockheed Martin Aeronautics Company Designated Engineering Representative (DER) that has been authorized by the Manager, Atlanta ACO Branch, FAA, to make those findings. To be approved, the repair, modification deviation, or alteration deviation must meet the certification basis of the airplane, and the approval must specifically refer to this AD.

(4) Required for Compliance (RC): Except as required by paragraph (k) of this AD, if any service information contains steps that are identified as RC, those steps, including substeps under an RC step and any figures identified in an RC step, must be done to comply with this AD; any steps that are not identified as RC are recommended. Those steps that are not identified as RC may be deviated from using accepted methods in accordance with the operator's maintenance or inspection program without obtaining approval of an AMOC, provided the steps and tests identified as RC can be done and the airplane can be put back in an airworthy condition. Any substitutions or changes to steps, including substeps under an RC step and any figures identified in an RC step, identified as RC require approval of an AMOC.

(o) Related Information

(1) For more information about this AD, contact Fred Caplan, Aerospace Engineer, Airframe Section, East Certification Branch, FAA, 1701 Columbia Avenue, College Park, GA 30337; phone: 404-474-5507; email: 9-ASO-ATLACO-ADs@faa.gov.

(2) Service information identified in this AD that is not incorporated by reference is available at the addresses specified in paragraphs (p)(5) and (6) of this AD.

(p) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on May 31, 2023.

(i) Lockheed Martin Aeronautics Company Alert Service Bulletin A382-57-98, Revision 2, dated February 14, 2023.

(ii) [Reserved]

(4) The following service information was approved for IBR on October 11, 2019 (84 FR 50730, September 26, 2019).

(i) Lockheed Martin Aeronautics Company Alert Service Bulletin A382-57-98, Revision 1, dated August 16, 2019.

(ii) [Reserved]

(5) For service information identified in this AD, contact Lockheed Martin Corporation/Lockheed Martin Aeronautics Company, Airworthiness Office, Dept. 6A0M, Zone 0252, Column P-58, 86 S Cobb Drive, Marietta, GA 30063; telephone 770-494-5444; fax 770-494-5445; email ams.portal@lmco.com.

(6) You may view this service information at the FAA, Airworthiness Products Section, Operational Safety Branch, 2200 South 216th St., Des Moines, WA. For information on the availability of this material at the FAA, call 206-231-3195.

(7) You may view this service information that is incorporated by reference at the National Archives and Records Administration (NARA). For information on the availability of this material at NARA, email fr.inspection@nara.gov, or go to: www.archives.gov/federal-register/cfr/ibr-locations.html.

Issued on May 9, 2023.
Ross Landes,
Deputy Director for Regulatory Operations, Compliance & Airworthiness Division, Aircraft Certification Service.

[FR Doc. 2023-10526 Filed 5-12-23; 4:15 pm]

BILLING CODE 4910-13-P